FEDERAL RETIREMENT THRIFT INVESTMENT BOARD

Employee Thrift Advisory Council; Sunshine Act; Notice of Meeting

TIME AND DATE: 10:00 a.m. (Eastern Time) November 12, 2014.

PLACE: 10th Floor Board Meeting Room, 77 K Street NE., Washington DC 20002.

STATUS: Open to the public.

MATTERS TO BE CONSIDERED:

Open to the Public

1. Approval of the minutes of the May 19, 2014 ETAC Meeting

2. Mutual Fund Window

3. Participant Demographic Report

4. New Participant Experience

5. New Business

CONTACT PERSON FOR MORE INFORMATION: Kimberly Weaver, Director, Office of External Affairs, (202) 942-1640.

Dated: October 31, 2014.
Megan Grumbine,
Deputy General Counsel, Federal Retirement Thrift Investment Board.

[FR Doc. 2014-26310 Filed 10-31-14; 4:15 pm]

BILLING CODE 6760-01-P